TENNESSEE VALLEY AUTHORITY

Meeting of the TVA Regional Resource Stewardship Council and Public Hearing Held by the TVA Board Community Relations Committee

AGENCY: Tennessee Valley Authority (TVA).

ACTION: Notice of meeting.

SUMMARY: The TVA Regional Resource Stewardship Council (Regional Council) will hold a meeting on August 16 and August 17 to discuss TVA land management. In conjunction with the Regional Council meeting the TVA Board Community Relations Committee will hold a public hearing on August 16 to hear viewpoints from various stakeholders regarding TVA's management of public lands in the Tennessee Valley. Under the TVA Act, TVA is charged with the proper use and conservation of natural resources for the purpose of fostering the orderly and proper physical, economic and social development of the Tennessee Valley region. The Regional Council was established to advise TVA on its natural resource stewardship activities. Notice of this meeting is given under the Federal Advisory Committee Act, 5 U.S.C. App. 2, (FACA).

The meeting agenda includes the following:

(1) Overview of TVA lands.

(2) Federal and State land management policy (Invited panelists).

(3) Stakeholder perspectives (Invited panelists).

(4) Public comments.

(5) Council discussion and advice.

The TVA Board Community Relations Committee and the TVA Regional Resource Stewardship Council will hear opinions and views of citizens by providing a public comment session. The public comment session will be held from 2:30 p.m. to 4 p.m. EDT on Wednesday, August 16, 2006. An interpreter for the deaf will be provided.

Participation in the Public Comment portion of the hearing is available on a first-come, first-served basis following the testimony of the panelists. TVA asks that comments be brief (less than 5 minutes) to allow as many people to speak as possible. Persons wishing to speak are requested to register at the door by 1:30 p.m. EDT on August 16 and will be called on during the public comment period. For those who wish to make comments but not speak publicly, a court reporter will be available at the meeting. Comments may also be submitted in writing the day of the meeting or until August 23 by email to landpolicyhearing@tva.gov or by mail to the TVA Board Community Relations Committee, Land Policy Hearing, 400 West Summit Hill Drive, Knoxville, Tennessee 37902-1499, or by fax to (865) 632-3146. Comments may also be submitted on a dedicated phone line, 1-888-882-7675.

DATES: The meeting will be held on Wednesday, August 16, 2006, from 8:30 a.m. to 4 p.m. EDT and on Thursday, August 17, 2006, from 9 a.m. to 11:30 a.m. Eastern Daylight Time.

ADDRESSES: The meeting will be held in Ballroom A/B at the Knoxville Convention Center, 701 Henley Street, Knoxville, Tennessee 37902, and will be open to the public. Anyone needing special access or accommodations should let the contact below know at least a week in advance.

FOR FURTHER INFORMATION CONTACT: Sandra Perry, 400 West Summit Hill Drive, WT 11A, Knoxville, Tennessee 37902, (865) 632-2333.

Dated: July 26, 2006.
Kathryn J. Jackson,
Executive Vice President, River System Operations & Environment, Tennessee Valley Authority.

[FR Doc. 06-6600 Filed 7-31-06; 8:45am]

BILLING CODE 8120-08-M